DEPARTMENT OF COMMERCE

International Trade Administration

[A-580-834]

Stainless Steel Sheet and Strip in Coils from the Republic of Korea: Rescission of Antidumping Duty Administrative Review

AGENCY: Import Administration, International Trade Administration, Department of Commerce.

ACTION: Notice of Rescission of Antidumping Duty Administrative Review.

SUMMARY: On August 22, 2003, in response to timely request from DaiYang Metal Corporation Ltd. (“DMC”), a Korean producer and exporter of subject merchandise, the Department of Commerce (“the Department”) published a notice of initiation of an antidumping duty administrative review on stainless steel sheet and strip in coils (“SSSS”) from the Republic of Korea for the period July 1, 2002 through June 30, 2003. See Initiation of Antidumping and Countervailing Duty Administrative Reviews and Requests for Revocation in Part, 68 FR 50750 (August 22, 2003) (“Initiation Notice”). On August 27, 2003, DMC withdrew its request for an administrative review. Therefore, as DMC was the only party to request a review, the Department is rescinding this review, in accordance with 19 CFR 351.213(d)(1).

EFFECTIVE DATE: October 1, 2003.

FOR FURTHER INFORMATION CONTACT: Lilit Astvatsatrian, Import Administration, International Trade Administration, U.S. Department of Commerce, 14th Street and Constitution Avenue, NW., Washington, D.C. 20230; telephone: (202) 482-6412.

SUPPLEMENTARY INFORMATION:

Background

On July 2, 2003, the Department published a notice of opportunity to request administrative review. See Notice of opportunity to request administrative review of antidumping or countervailing duty order, finding, or suspended investigation, 68 FR 39511 (July 2, 2003). On July 31, 2003, DMC requested that the Department conduct an administrative review of its sales of the subject merchandise during the period July 1, 2002 through June 30, 2003. On August 22, 2003, the Department published its Initiation Notice on SSSS from the Republic of Korea. On August 27, 2003, DMC withdrew its request for the administrative review and requested that the Department rescind the review. See Letter to Withdraw DMC's Review Request dated August 27, 2003.

Rescission of Review

Pursuant to 19 CFR 351.213(d)(1), the Department will rescind an administrative review, in whole or in part, if a party that requested a review withdraws the request within 90 days of the date of publication of the notice of initiation of the requested review. DMC, the only interested party to request an administrative review for this time period, withdrew its request for review within the 90 day time limit; accordingly, we are rescinding the administrative review for the period July 1, 2002 through June 30, 2003, and will issue appropriate assessment instructions to the U.S. Bureau of Customs and Border Protection.

This determination is issued in accordance with 19 CFR 351.213(d)(4) and section 751(i)(1) of the Tariff Act of 1930, as amended.

Dated: September 25, 2003.
Joseph A. Spetrini,
Deputy Assistant Secretary for Import Administration, Group III.

[FR Doc. 03-24902 Filed 9-30-03; 8:45 am]

BILLING CODE 3510-DS-S